DEPARTMENT OF ENERGY

Federal Energy Regulatory Commission

Combined Notice of Filings #1

Take notice that the Commission received the following electric corporate filings:

Docket Numbers: EC14-19-000.

Applicants: TransAlta Corporation, TransAlta Holdings U.S. Inc., FPL Energy Wyoming, LLC.

Description: Application for Authorization for Disposition of Jurisdictional Facilities, Request for Confidential Treatment, and Request for Expedited Consideration of FPL Energy Wyoming, LLC, et al.

Filed Date: 10/30/13.

Accession Number: 20131030-5171.

Comments Due: 5 p.m. ET 11/20/13.

Take notice that the Commission received the following electric rate filings:

Docket Numbers: ER10-2794-015; ER10-2849-014; ER11-2028-015; ER12-1825-013; ER11-3642-013.

Applicants: EDF Trading North America, LLC, EDF Industrial Power Services (NY), LLC, EDF Industrial Power Services (IL), LLC, EDF Industrial Power Services (CA), LLC, EDF Industrial Power Services (OH), LLC, Tanner Street Generation, LLC.

Description: Notice of Non-Material Change in Status of EDF Trading North America, LLC, et al.

Filed Date: 10/30/13.

Accession Number: 20131030-5179.

Comments Due: 5 p.m. ET 11/20/13.

Docket Numbers: ER13-2117-001.

Applicants: Virginia Electric and Power Company.

Description: Virginia Electric and Power Company submits Compliance Filing—Amendment to Pending Compl Filing of 080613 to be effective 10/31/2013.

Filed Date: 10/30/13.

Accession Number: 20131030-5156.

Comments Due: 5 p.m. ET 11/20/13.

Docket Numbers: ER13-2490-001.

Applicants: Simon Solar, LLC.

Description: Simon Solar, LLC submits Supplement Record in Pending Filing to be effective 10/1/2013.

Filed Date: 10/30/13.

Accession Number: 20131030-5167.

Comments Due: 5 p.m. ET 11/20/13.

Docket Numbers: ER14-233-000.

Applicants: Midcontinent Independent System Operator, Inc.

Description: Midcontinent Independent System Operator, Inc. submits 10-30-2013 SA 2314 MidAmerican Lehigh-Webster IA 2nd Revised to be effective 10/31/2013.

Filed Date: 10/30/13.

Accession Number: 20131030-5131.

Comments Due: 5 p.m. ET 11/20/13.

Docket Numbers: ER14-234-000.

Applicants: Midcontinent Independent System Operator, Inc.

Description: Midcontinent Independent System Operator, Inc. submits 10-30-2013 SA 764/766 ATC D-T IA Update to be effective 12/29/2013.

Filed Date: 10/30/13.

Accession Number: 20131030-5139.

Comments Due: 5 p.m. ET 11/20/13.

Docket Numbers: ER14-236-000.

Applicants: Southwest Power Pool, Inc.

Description: Southwest Power Pool, Inc. submits Transource Missouri Formula Rate to be effective 1/1/2014.

Filed Date: 10/30/13.

Accession Number: 20131030-5154.

Comments Due: 5 p.m. ET 11/20/13.

Docket Numbers: ER14-237-000.

Applicants: Westar Energy, Inc.

Description: Westar Energy, Inc. submits Cost-Based Master Power Purchase & Sale Agreement to be effective 12/1/2013.

Filed Date: 10/30/13.

Accession Number: 20131030-5155.

Comments Due: 5 p.m. ET 11/20/13.

Take notice that the Commission received the following land acquisition reports:

Docket Numbers: LA13-3-000.

Applicants: Alabama Electric Marketing, LLC, Big Sandy Peaker Plant, LLC, California Electric Marketing, LLC, Crete Energy Venture, LLC, CSOLAR IV South, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Management, LLC, Tenaska Power Services Co., Tenaska Virginia Partners, L.P., Texas Electric Marketing, LLC, TPF Generation Holdings, LLC, Wolf Hills Energy, LLC.

Description: Quarterly Land Acquisition Report of the Tenaska MBR Sellers.

Filed Date: 10/30/13.

Accession Number: 20131030-5188.

Comments Due: 5 p.m. ET 11/20/13.

Docket Numbers: LA13-3-000.

Applicants: All Dams Generation, LLC, Arlington Valley Solar Energy II, LLC, Bluegrass Generation Company, L.L.C., Calhoun Power Company, LLC, Centinela Solar Energy, LLC, Cherokee County Cogeneration Partners, LLC, DeSoto County Generating Company, LLC, Doswell Limited Partnership, Lake Lynn Generation, LLC, Las Vegas Power Company, LLC, LS Power Marketing, LLC, LSP Safe Harbor Holdings, LLC, LSP University Park, LLC, PE Hydro Generation, LLC, Renaissance Power, L.L.C., Riverside Generating Company, L.L.C., Rocky Road Power, LLC, Seneca Generation, LLC, Tilton Energy LLC, University Park Energy, LLC, and Wallingford Energy LLC.

Description: Quarterly Land Acquisition Report of the LS MBR Sellers.

Filed Date: 10/30/13.

Accession Number: 20131030-5189.

Comments Due: 5 p.m. ET 11/20/13.

Docket Numbers: LA13-3-000.

Applicants: Macquarie Energy LLC, Brea Generation LLC, Brea Power II, LLC.

Description: Quarterly Land Acquisition Report of Macquarie Energy LLC, et al.

Filed Date: 10/30/13.

Accession Number: 20131030-5190.

Comments Due: 5 p.m. ET 11/20/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2013.
Nathaniel J. Davis, Sr.,
Deputy Secretary.

[FR Doc. 2013-26965 Filed 11-8-13; 8:45 am]

BILLING CODE 6717-01-P